DEPARTMENT OF AGRICULTURE

Agricultural Marketing Service

7 CFR Part 930

[Docket No. FV03-930-1C]

Tart Cherries Grown in the States of Michigan, New York, Pennsylvania, Oregon, Utah, Washington, and Wisconsin; Continuance Referendum; Correction

AGENCY: Agricultural Marketing Service, USDA.

ACTION: Referendum order; correction.

SUMMARY: This document contains two corrections to the referendum order published in the Federal Register on March 3, 2003 (68 FR 9944), concerning tart cherries grown in the States of Michigan, New York, Pennsylvania, Oregon, Utah, Washington, and Wisconsin. This action corrects the referendum period and the date by which ballots must be postmarked to be considered valid listed in the SUPPLEMENTARY INFORMATION section. The referendum period is from March 17 through 28, 2003, and the date by which ballots must be postmarked to be considered valid is March 28, 2003.

FOR FURTHER INFORMATION CONTACT: Kenneth G. Johnson, DC Marketing Field Office, Fruit and Vegetable Programs, AMS, USDA, Suite 2A04, Unit 155, Room 2A38, 4700 River Road, Riverdale, Maryland 20737; telephone: (301) 734-5243, Fax: (301) 734-5275; or Melissa Schmaedick, Marketing Order Administration Branch, Fruit and Vegetable Programs, AMS, USDA, P.O. Box 1035, Moab, UT 84532; telephone: (435) 259-7988, Fax: (435) 259-4945.

SUPPLEMENTARY INFORMATION:

Background

A referendum order published in the Federal Register on March 3, 2003, (68 FR 9944) directed that a continuance referendum be conducted among eligible growers and processors of tart cherries in the States of Michigan, New York, Pennsylvania, Oregon, Utah, Washington, and Wisconsin to determine whether they favor continuance of the marketing order regulating the handling of tart cherries grown in the production area. The referendum order was issued under Marketing Order No. 930, as amended (7 CFR Part 930). The order is effective under the Agricultural Marketing Agreement Act of 1937, as amended (7 U.S.C. 601-674).

Need for Correction

As published, the referendum period and date by which ballots must be postmarked to be considered valid in the SUPPLEMENTARY INFORMATION section are incorrect.

Correction of Publication

Accordingly, the SUPPLEMENTARY INFORMATION section in the publication of the referendum order (Docket No. FV03-930-1) is corrected as follows:

1. On page 9944, column 2, line 13, the dates “March 10 through March 21, 2003” is corrected to read “March 17 through 28, 2003.”

2. On page 9944, column 3, line 9, the date “March 21, 2003” is corrected to read “March 28, 2003.”

Dated: March 14, 2003.
A.J. Yates,
Administrator, Agricultural Marketing Service.

[FR Doc. 03-6666 Filed 3-19-03; 8:45 am]

BILLING CODE 3410-02-P